DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the reinstatement without change of the previously approved information collection project “Agency for Healthcare Research and Quality's (AHRQ) Child Hospital Consumer Assessment of Healthcare Providers and Systems (Child HCAHPS) Survey Database.” (OMB No. 0935-0243) This information collection was previously published in the Federal Register on September 25, 2025, and allowed 60 days for public comment. No comments were received by AHRQ. The purpose of this notice is to allow an additional 30 days for public comment.

DATES: Comments on this notice must be received by January 16, 2026.

ADDRESSES: Written comments and recommendations for the proposed information collection should be sent within 30 days of publication of this notice to www.reginfo.gov/public/do/PRAMain. Find this particular information collection by selecting “Currently under 30-day Review—Open for Public Comments” or by using the search function. Copies of the proposed collection plans, data collection instruments, and specific details on the estimated burden can be obtained from the AHRQ Reports Clearance Officer.

FOR FURTHER INFORMATION CONTACT: Margie Shofer, AHRQ Reports Clearance Officer, 301-427-1696 or by email at REPORTSCLEARANCEOFFICER@ahrq.hhs.gov.

SUPPLEMENTARY INFORMATION:

Proposed Project

Agency for Healthcare Research and Quality's (AHRQ) Child Hospital Consumer Assessment of Healthcare Providers and Systems (Child HCAHPS) Survey Database

The Child HCAHPS survey assesses the experiences of pediatric patients (less than 18 years old) and their parents or guardians with inpatient care. It complements the CAHPS Adult Hospital Survey (HCAHPS), which asks adult inpatients about their experiences. The Child HCAHPS Survey Database is a voluntary database available to all Child HCAHPS users to support both quality improvement and research to enhance the patient-centeredness of care delivered to pediatric hospital patients. AHRQ requests that OMB approve the reinstatement, without change, of AHRQ's collection of information for the Child HCAHPS Survey Database (OMB Control number 0935-0243, last approved on October 12, 2022).

Like the survey instrument itself and related toolkit materials to support survey implementation, aggregated Child HCAHPS Survey Database results will be made publicly available on AHRQ's CAHPS website. Technical assistance will be provided by AHRQ through its contractor at no charge to hospitals to facilitate the access and use of these materials for quality improvement and research. Technical assistance is also provided to support Child HCAHPS data submission.

The Child HCAHPS Survey Database supports AHRQ's goals of promoting improvements in the quality and patient-centeredness of health care in pediatric hospital settings.

This research seeks to answer the following research questions:

1. What are the key drivers of patient experience in pediatric settings?

2. How do pediatric patients experience of care vary across the West, Midwest, South, and Northeast regions?

3. What are the highest and lowest scoring measures in specific areas of care for pediatric hospitals?

This research has the following goals:

1. Improve care provided by individual hospitals and hospital systems.

2. Offer several products and services, including providing survey results presented through summary chartbooks, custom analyses, private reports and data for research purposes.

3. Provides information to help identify strengths and areas with potential for improvement in patient care.

Survey data from the Child HCAHPS Survey Database will be used to produce two types of reporting products:

• Hospital Feedback Reports. Hospitals that submit data will have access to a customized report that presents findings for their individual submission along with results from the database overall. These “private” hospital feedback reports will display sortable results for each of the Child HCAHPS core composite measures and for each individual survey item that forms the composite measure.

• Child HCAHPS Chartbook. A summary-level Chartbook will be compiled to display top box and other proportional scores for the Child HCAHPS items and composite measures broken out by selected hospital characteristics (e.g., region, hospital size, ownership and affiliation, etc.).

This study is being conducted by AHRQ through its contractor, Westat, pursuant to AHRQ's statutory authority to conduct and support research on health care and on systems for the delivery of such care, including activities with respect to the quality, effectiveness, efficiency, appropriateness and value of healthcare services; to quality measurement and improvement; and health surveys and database development [42 U.S.C 299a(a)(1), (2), and (8)].

Method of Collection

To achieve the goals of this project, the following data collections will be implemented:

• Registration with the submission website to obtain an account with a secure username and password: The point-of-contact (POC), often the hospital, completes a number of data submission steps and forms, beginning with the completion of the online registration form. The purpose of this form is to collect basic contact information about the organization and initiate the registration process;

• Submission of signed Data Use Agreements (DUAs) and survey questionnaires: The purpose of the data use agreement, completed by the participating hospital, is to state how data submitted by or on behalf of hospitals will be used and provide confidentiality assurances;

• Submission of hospital information form: The purpose of this form, completed by the participating organization, is to collect background characteristics of the hospital;

• Submission of survey data files: POCs upload their data file using the Hospital data file specifications to ensure that users submit standardized and consistent data in the way variables are named, coded, and formatted.

Estimated Annual Respondent Burden

Exhibit 1 shows the estimated burden hours for the respondent to participate in the database. The 54 POCs in Exhibit 1 are a combination of an estimated 50 hospitals that currently administer the Child HCAHPS survey and the four survey vendors assisting them.

Each hospital will register online for submission. The online Registration form will require about five minutes to complete. Each submitter will also complete a hospital information form. The online hospital information form takes on average five minutes to complete. The DUA will be completed by each of the 50 participating hospitals. Survey vendors do not sign or submit DUAs. The DUAs are submitted by the participating hospitals and requires about three minutes to sign and upload to the online submission system. Each submitter, which in most cases will be the survey vendor performing the data collection, will provide a copy of their questionnaire and the survey data file in the required file format. Survey data files must conform to the data file layout specifications provided by the Child HCAHPS Survey Database. Since the unit of analysis is at the hospital level, submitters will upload one data file per hospital. Once a data file is uploaded, the file will be automatically checked to ensure it conforms to the specifications, and a data file status report will be produced and made available to the submitter. Submitters will review each report and will be expected to correct any errors in their data file and resubmit if necessary. It will take about one hour to submit the data for each hospital. The total burden is estimated to be 61 hours annually.

Exhibit 1—Estimated Annualized Burden Hours
Form name | Number of respondents/POCs | Number of responses per POC | Hours per response | Total burden hours
Registration Form | 50 | 1 | 5/60 | 4
Hospital Information Form | 50 | 1 | 5/60 | 4
Data Use Agreement | 50 | 1 | 3/60 | 3
Data Files Submission | 4 | 12.5 | 1 | 50
Total | NA | NA | NA | 61

Exhibit 2 shows the estimated annualized cost burden based on the respondents' time to complete one submission process. The cost burden is estimated to be $6,801 annually.

Exhibit 2—Estimated Annualized Cost Burden
Form name | Total burden hours | Average hourly wage rate * | Adjusted hourly wage rate ** | Total cost burden
Registration Form | 4 | ᵃ $66.22 | $132.44 | $530
Hospital Information Form | 4 | ᵃ 66.22 | 132.44 | 530
Data Use Agreement | 3 | ᵇ 126.41 | 252.82 | 758
Data Files Submission | 50 | ᶜ 49.83 | 99.66 | 4,983
Total | 61 | NA | NA | 6,801
* National Compensation Survey: Occupational wages in the United States May 2024, “U.S. Department of Labor, Bureau of Labor Statistics.” https://data.bls.gov/oes/#/industry/000000.
** The Adjusted Hourly Rate was estimated at 200% of the hourly wage.
ᵃ Based on the mean hourly wage for Medical and Health Services Managers (11-9111).
ᵇ Based on the mean hourly wage for Chief Executives (11-1011).
ᶜ Based on the mean hourly wages for Computer Programmer (15-1251).

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: December 10, 2025.
Jeffrey Toven,
Executive Officer.

[FR Doc. 2025-23096 Filed 12-16-25; 8:45 am]

BILLING CODE 4160-90-P